DEPARTMENT OF TRANSPORTATION

Federal Aviation Administration

14 CFR Part 39

[Docket No. FAA-2005-20796; Directorate Identifier 2004-NM-160-AD; Amendment 39-14299; AD 2005-20-06]

RIN 2120-AA64

Airworthiness Directives; Airbus Model A300 B2 and A300 B4 Series Airplanes; Model A300 B4-600, B4-600R and F4-600R Series Airplanes, and Model A300 C4-605R Variant F Airplanes (Collectively Called A300-600 Series Airplanes); and Model A310-200 and -300 Series Airplanes

AGENCY: Federal Aviation Administration (FAA), Department of Transportation (DOT).

ACTION: Final rule.

SUMMARY: The FAA is adopting a new airworthiness directive (AD) for all the Airbus models identified above. This AD requires modifying the electrical power supply logic for the integral lighting of the standby horizon indicator in the cockpit, accomplishing repetitive operational tests of the integral lighting logic system, and performing corrective action if necessary. This AD is prompted by a report of temporary loss of six cathode ray tube (CRT) flight displays and the integral lighting of the standby horizon indicator backlight in the cockpit during takeoff, due to failure of the normal electrical power circuit. That power circuit supplies power to both the CRTs and the standby horizon indicator backlight. We are issuing this AD to prevent loss of the integral lighting due to failure of the normal electrical power circuit, which could result in inability of the pilot to read the backup attitude information during takeoff, and possible deviation from the intended flight path.

DATES: This AD becomes effective November 3, 2005.

The incorporation by reference of certain publications listed in the AD is approved by the Director of the Federal Register as of November 3, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20796; the directorate identifier for this docket is 2004-NM-160-AD.

FOR FURTHER INFORMATION CONTACT: Tim Backman, Aerospace Engineer, International Branch, ANM-116, Transport Airplane Directorate, 1601 Lind Avenue, SW., Renton, Washington 98055-4056; telephone (425) 227-2797; fax (425) 227-1149.

SUPPLEMENTARY INFORMATION: The FAA proposed to amend 14 CFR part 39 with an AD for all Airbus Model A300 B2 and A300 B4 series airplanes; Model A300 B4-600, B4-600R and F4-600R series airplanes, and Model A300 C4-605R Variant F airplanes (collectively called A300-600 series airplanes); and Model A310 series airplanes. That action, published in the Federal Register on April 4, 2005 (70 FR 16981), proposed to require modifying the electrical power supply logic for the integral lighting of the standby horizon indicator in the cockpit, accomplishing repetitive operational tests of the integral lighting logic system, and performing corrective action if necessary.

Comments

We provided the public the opportunity to participate in the development of this AD. We have considered the comments that have been submitted on the NPRM.

Support for Proposed AD

One commenter supports the intent and actions specified in the NPRM.

Request To Revise Service Information/Change Certain Requirements

One commenter states that it has no objection to the intent of the NPRM—to prevent loss of integral lighting; however, the commenter has several concerns. Each of the commenter's concerns is followed by an FAA response.

1. The NPRM and the referenced French airworthiness directive are based on one operator, one airplane, and one event. The commenter notes that the Airbus solution was to issue the referenced service information, and adds that the reported multiple cathode ray tube (CRT) failure seems to be a mystery. Per the Discussion section in the NPRM, “The temporary loss of the CRTs is still under investigation.” However, the referenced service bulletin specifies “This inspection service bulletin (ISB) recommends checking the standby horizon integral lighting logic supply. Accomplishment of this ISB will avoid the loss of the standby horizon indicator integral lighting.” The commenter notes that there is no CRT reference in the service bulletin. The commenter would like to see the modification specified in the service bulletins be compatible with the modification required by the NPRM; for this to occur, the service bulletins must be revised to specify if the CRT issue is corrected with the modification.

Airbus has issued the following revised service bulletins (the previous versions were referenced in the NPRM as the appropriate sources of service information for accomplishing certain required actions):

Revised Service Bulletins
For Model— | Service Bulletin date—
A300 B2 and A300 B4 series airplanes | A300-31-0077, Revision 01, dated January 28, 2005.
A300 B4-600, B4-600R and F4-600R series airplanes; A300 C4-605R Variant F airplanes | A300-31-6105, Revision 03, dated December 20, 2004.
| A300-33-6049, Revision 02, dated April 25, 2005.
A310 series airplanes | A310-31-2120, Revision 02, dated January 28, 2005; and Revision 03, dated June 22, 2005.

We have added the revisions above to this final rule as the sources of service information for accomplishing certain actions. These revisions add no further work to the previous issues of the service bulletins; operators are merely informed that the revised service bulletins are mandatory. We have changed paragraph (f) of this AD to add credit for actions done in accordance with the previous issues of the service bulletins.

For clarification, the standby horizon indicator provides backup attitude information to the pilot and is illuminated by integral lighting (a backlight). The purpose of modifying the electrical power supply logic for the integral lighting is to provide automatic switching to a different power circuit if there is a failure of the normal power circuit. This switching will allow the pilot to read attitude information from the standby indicator in low light conditions with a failure of the normal power circuit. The technical content of the referenced service bulletins is correct and contains adequate information and procedures to accomplish the modification of the electrical power supply logic; however, this modification will not correct the temporary loss of the CRTs, which is still under investigation. We have changed the Summary section and paragraph (d) of this AD to add this clarification.

2. The modification of the integral lighting power supply logic of the standby horizon is still not the ultimate “fix” since the NPRM requires indefinite repetitive operational tests of the modification. The commenter argues that the referenced service bulletins were issued by Airbus as a data collection device to verify that the modification fixed the problem. Further explanation of the necessity of the repetitive operational tests, by the FAA or the Direction Générale de l'Aviation Civile (DGAC), which is the airworthiness authority for France, is requested.

We acknowledge the commenter's concern regarding accomplishing repetitive operational tests indefinitely, but we disagree with the comment that the service bulletins were issued by Airbus as a data collection device to verify that the modification fixed the problem. The FAA, DGAC, and Airbus regard the modification of the integral lighting power supply logic of the standby horizon indicator a final fix to ensure adequate lighting. During operation under normal electrical power, background lighting of the stand-by attitude is supplied through a specific power circuit. However, the modification provides automatic switching to a different power circuit if there is a failure of the normal power circuit. This feature is hidden as long as the normal power circuit is operating. Consequently, to limit the exposure time of a hidden failure of the automatic switching feature to meet safety objectives, a periodic operational test is required.

3. The NPRM requires indefinite repetitive operational tests of the modification at 600-flight-hour intervals. The commenter has an established B-check maintenance schedule of 350 flight hours and would like to propose that the test interval be changed to a 700-flight-hour interval. This would allow for routine scheduling of aircraft and add only 1.5 man hours to its current B-check workload.

We agree that the test interval can be changed to a 700-flight-hour interval. The manufacturer has completed a reassessment of the probability of the loss of the automatic switching feature. As a result of a detailed Failure Mode Effect Analysis, and inclusion of the latest fleet cumulative flight-hour data, the necessary safety objective can be met with an extension of the maximum exposure time to 700 flight hours. We have changed paragraph (h) of this AD accordingly.

4. Of the 189 airplanes of U.S. registry that are affected by the NPRM, the commenter currently operates 107, with 8 more in a passenger-to-freighter conversion process. All of these airplanes will require the proposed modification. The referenced service bulletins specify that obtaining the kits to accomplish the modification will take a 4-month lead-time from receipt of order. This makes scheduling and accomplishing the modification on all its airplanes within the 12 month compliance time virtually impossible. The commenter proposes a 36-month compliance time to allow the commenter to take advantage of its C-check intervals, which are Airbus specified at 910 days or 3,500 flight hours, whichever occurs first. The proposed compliance time also takes into consideration that maintenance facilities are down for host-country holidays, and limited maintenance is accomplished in the U.S. from October through January for maximum airlift during that time.

We agree to extend the compliance time for the modification to within 18 months after the effective date of this AD. We find that, for the airplane models affected by this AD, operators should be able to accomplish the modification within 18-months. For operators that encounter difficulty accomplishing the modification within this timeframe, under the provisions of paragraph (j) of this AD, we may approve a request for further adjustment to the compliance time if data are submitted to substantiate that such an adjustment would provide an acceptable level of safety.

5. The cost estimates for the NPRM differ from the cost estimates specified in the referenced service bulletins. The service bulletins specify a minimum of two Airbus kits, and some airplanes will need three, depending on whether other modifications are embodied. The commenter has computed a required parts price range of $5,410 to $9,350, with an associated work hour range of 31 to 36. Based on these figures, the estimated cost for the proposed modification would be between $7,425 and $11,690 per airplane. The service bulletins also indicate that the operational test will require 1.5 work hours to accomplish, which is an additional $97.50 per airplane, per test cycle.

We do not agree, the cost of the kits and the number of work hours are the same as those specified in the referenced service bulletins. The cost analysis in AD rulemaking actions typically does not include incidental costs such as the time required to gain access and close up, time necessary for planning, or time necessitated by other administrative actions. Because the work hours may vary significantly from operator to operator, depending on the airplane configuration, they are almost impossible to calculate. We have made no change to the AD in this regard.

6. The corrective action specified in paragraph (i) of the NPRM is too vague and will slow the repair process, as follows: “If any operational test required by paragraph (h) of this AD fails: Before further flight, accomplish any applicable repair per a method approved by either the Manager, International Branch, ANM-116, FAA, Transport Airplane Directorate; or the Direction Générale de l'Aviation Civile (or its delegated agent).” The literal interpretation of this, as written, is that when a test fails, the airplane is grounded until the FAA grants an approved method that would restore the airplane to an operational condition. This prevents the operator from using established maintenance practices until an “approved method” is granted by the FAA or DGAC. The approval required is implied to be per airplane, since the operational test is done by individual airplane. Allowing the use of standard maintenance practices would allow an operator to restore the affected airplane on-site and expedite the return to operational status. The FAA-approved operator's general maintenance manual, aircraft maintenance manual, illustrated parts catalog, wire diagram manual, and system schematic manual, have always been accepted tools to troubleshoot and restore an airplane to operational status. Instances of a failed test in which standard maintenance practices do not solve the problem should be the only time an AMOC would be required by the FAA or DGAC.

We agree that, in the case of a failed test in which standard maintenance practices do not solve the problem, a repair approved by us or the DGAC is required. The service bulletins for the test do not provide formal repair/trouble shooting instructions if a test fails. However, the manufacturer has confirmed that their intent was that any repair/trouble shooting following such failure should be performed per basic maintenance practices, using standard Airbus documentation. We have included the aircraft wiring manual, trouble shooting manual, and aircraft maintenance manual as approved methods for accomplishing the repairs specified in paragraph (i) of this AD.

Explanation of Change to Applicability

We have revised the applicability of the NPRM to identify model designations as published in the most recent type certificate data sheet for the affected models.

Conclusion

We have carefully reviewed the available data, including the comments that have been submitted, and determined that air safety and the public interest require adopting the AD with the changes described previously. We have determined that these changes will neither increase the economic burden on any operator nor increase the scope of the AD.

Costs of Compliance

This AD affects about 189 airplanes of U.S. registry.

It will take between approximately 10 and 36 work hours per airplane to accomplish the modification (depending on the number of kits needed), at an average labor rate of $65 per work hour. Required parts will cost approximately between $310 and $4,880 per airplane. Based on these figures, the estimated cost of the modification is between $960 and $7,220 per airplane.

It will take about 1 work hour per airplane to accomplish the operational test, at an average labor rate of $65 per work hour. Based on these figures, the estimated cost of the test is $12,285, or $65 per airplane, per test cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-20-06 Airbus: Amendment 39-14299. Docket No. FAA-2005-20796; Directorate Identifier 2004-NM-160-AD.

Effective Date

(a) This AD becomes effective November 3, 2005.

Affected ADs

(b) None.

Applicability

(c) This AD applies to all Airbus Model A300 B2-1A, B2-1C, B2K-3C, and B2-203 and A300 B4-2C, B4-103, and B4-203 airplanes; Model A300 B4-601, B4-603, B4-620, and B4-622, A300 B4-605R and B4-622R, A300 F4-605R and F4-622R, and A300 C4-605R Variant F airplanes; and Model A310-203, -204, -221, and -222 and -304, -322, -324, and -325 airplanes; certificated in any category.

Unsafe Condition

(d) This AD was prompted by a report of temporary loss of six cathode ray tube (CRT) flight displays and the integral lighting of the standby horizon indicator in the cockpit during takeoff, due to failure of the normal electrical power circuit. That power circuit supplies power to both the CRTs and standby horizon indicator backlight. We are issuing this AD to prevent loss of the integral lighting due to failure of the normal electrical power circuit, which could result in inability of the pilot to read the backup attitude information during takeoff, and possible deviation from the intended flight path.

Compliance

(e) You are responsible for having the actions required by this AD performed within the compliance times specified, unless the actions have already been done.

Required Service Information

(f) Unless otherwise specified in this AD, the term “service bulletin,” as used in this AD, means the Accomplishment Instructions of the applicable service bulletin identified in Table 1 of this AD. Airbus Service Bulletins A300-33-0126, A300-33-6049, and A310-33-2047 specify to submit certain information to the manufacturer, but this AD does not include that requirement.

Table 1.—Service Bulletins
For Airbus Models— | Use Airbus Service Bulletin(s)— | Revision— | Dated— | And, for actions done before the effective date of this AD, credit is given for prior accomplishing of—
A300 B2 and A300 B4 series | A300-31-0077 (Airbus Modification 12513) | 01 | January 28, 2005 | Original, dated March 2, 2004.
| A300-33-0126 | Original | April 5, 2004 | N/A.
A300 B4-600; A300 B4-600R and F4-600R series; and A300 C4-605R Variant F airplanes | A300-31-6105 (Airbus Modifications 12513 and 12730) | 03 | December 20, 2004 | Revision 02, dated May 27, 2003.
| A300-33-6049 | 02 | April 25, 2005 | Original, dated April 5, 2004; Revision 01, dated May 28, 2004.
A310 series | A310-31-2120 (Airbus Modification 12513) | 03 | June 22, 2005 | Original, dated November 19, 2002; Revision 01, dated May 27, 2003; Revision 02, dated January 28, 2005.
| A310-33-2047 | Original | April 5, 2004 | N/A.

Modification

(g) For airplanes on which Airbus Modifications 12513 and 12730 have not been accomplished: Within 18 months after the effective date of this AD, modify the electrical power supply logic of the integral lighting for the standby horizon indicator in the cockpit in accordance with the service bulletin.

Repetitive Operational Tests

(h) For all airplanes: Within 700 flight hours after accomplishing the modification required by paragraph (g) of this AD, or within 700 flight hours after the effective date of this AD, whichever is later, accomplish the operational test of the integral lighting logic system in accordance with the service bulletin. Repeat the test thereafter at intervals not to exceed 700 flight hours.

Corrective Action

(i) If any operational test required by paragraph (h) of this AD fails: Before further flight, accomplish any applicable repair per a method approved by either the Manager, International Branch, ANM-116, FAA, Transport Airplane Directorate; or the Direction Générale de l'Aviation Civile (DGAC) (or its delegated agent). Airbus A300-600 and A310 Trouble Shooting Manuals; Airbus A300-600 and A310 Aircraft Wiring Manuals; and Airbus A300-600 and A310 Aircraft Maintenance Manuals, are approved methods for accomplishing the repair, as applicable. Except, in the case of a failed test in which standard maintenance practices do not solve the problem, a repair approved by the FAA or the DGAC is required.

Alternative Methods of Compliance (AMOCs)

(j) The Manager, International Branch, ANM-116, has the authority to approve AMOCs for this AD, if requested in accordance with the procedures found in 14 CFR 39.19.

Related Information

(k) French airworthiness directive F-2004-098, dated July 7, 2004, also addresses the subject of this AD.

Material Incorporated by Reference

(l) You must use the applicable service bulletin identified in Table 2 of this AD to perform the actions that are required by this AD, unless the AD specifies otherwise.

Table 2.—Service Bulletins Incorporated by Reference
Airbus Service Bulletin— | Revision— | Dated—
A300-31-0077 | 01 | January 28, 2005.
A300-31-6105 | 03 | December 20, 2004.
A300-33-0126, excluding Appendix 01 | Original | April 5, 2004.
A300-33-6049, excluding Appendix 01 | 02 | April 25, 2005.
A310-31-2120 | 03 | June 22, 2005.
A310-33-2047, excluding Appendix 01 | Original | April 5, 2004.

The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the internet at http://dms.dot.gov; or at the National Archives and Records Administration (NARA). For information on the availability of this material at the NARA, call (202) 741-6030, or go to http://www.archives.gov/federal_register/code_of_federal_regulations/ibr_locations.html.

Issued in Renton, Washington, on September 20, 2005.
Ali Bahrami,
Manager, Transport Airplane Directorate, Aircraft Certification Service.

[FR Doc. 05-19229 Filed 9-28-05; 8:45 am]

BILLING CODE 4910-13-U